DEPARTMENT OF TRANSPORTATION

Surface Transportation Board

[STB Finance Docket No. 34655]

Georgia & Florida RailNet, Inc.—Acquisition and Operation Exemption—Georgia Department of Transportation

Georgia & Florida RailNet, Inc. (GFRR), a Class III rail carrier, has filed a verified notice of exemption under 49 CFR 1150.41 to acquire and to operate as a rail common carrier over a permanent irrevocable rail easement on property to be acquired by the Georgia Department of Transportation (GDOT) from the City of Willacoochee, GA. The subject track extends from Nashville, GA, at milepost 57.2, to Willacoochee, GA, at milepost 73.8, a distance of 16.6 miles. GFRR states that it has been operating over the track as exempt industrial trackage since it first acquired its lines of railroad in 1999.

GFRR indicates that the parties contemplate consummating the instant transaction on or before April 8, 2005. GFRR certifies that its projected revenues as a result of this transaction will not result in the creation of a Class II or Class I rail carrier.¹

¹ GFRR also stated that its projected annual revenues following the transaction will exceed $5 million, but it requested waiver of the 60-day advance labor notice requirements at 49 CFR 1140.42(e). That request is being addressed by the Board in a separate decision. The Board's decision on the request will affect the effective date of the exemption and hence the date on which the transaction could be consummated.

If the verified notice contains false or misleading information, the exemption is void ab initio. Petitions to revoke the exemption under 49 U.S.C. 10502(d) may be filed at any time. The filing of a petition to revoke will not automatically stay the transaction.

An original and 10 copes of all pleadings, referring to STB Finance Docket No. 34655, must be filed with the Surface Transportation Board, 1925 K Street, NW., Washington, DC 20423-0001. In addition, a copy of each pleading must be served on: John D. Heffner, 1920 N Street, NW., Suite 800, Washington DC 20036.

Board decisions and notices are available on our Web site at http://www.stb.dot.gov.

Decided: March 2, 2005.
By the Board, David M. Konschnik, Director, Office of Proceedings.
Vernon A. Williams,
Secretary.

[FR Doc. 05-4416 Filed 3-9-05; 8:45 am]

BILLING CODE 4915-01-P